DEPARTMENT OF DEFENSE

Department of the Army; Corps of Engineers

Intent to Prepare a Draft Environmental Impact Statement for Expansion of Lake Worth Inlet (Palm Beach Harbor), FL

AGENCY: Department of the Army, U.S. Army Corps of Engineers, DoD.

COOPERATING AGENCY: Port of Palm Beach District, Riviera Beach, Florida.

ACTION: Notice of intent.

SUMMARY: The Jacksonville District, U.S. Army Corps (Corps) of Engineers intends to prepare a Draft Environmental Impact Statement (EIS) for expansion, including widening and deepening of existing channels and turning basins in Lake Worth Inlet (Palm Beach Harbor). The project is a cooperative effort between the U.S. Army Corps of Engineers (lead Federal agency) and Port of Palm Beach District (non-Federal sponsor and cooperating agency).

ADDRESSES: Ms. Catherine L. Brooks, U.S. Army Corps of Engineers, Jacksonville District, Planning Division, Environmental Section, P.O. Box 4970, Jacksonville, FL 32207.

FOR FURTHER INFORMATION CONTACT: Catherine L. Brooks at (904) 232-2130.

SUPPLEMENTARY INFORMATION: Authority for the proposed study was received under the House Resolution of June 25, 1998. An expedited Reconnaissance Report completed in 2001 by the Corps, concluded based on preliminary findings, there was a federal interest in pursuing harbor improvements.

Alternatives: The project's expansion alternatives include no action, creation of channel flares, wideners, deepening, turning basin, or a combination of the considered alternatives. Alternatives being considered for disposal of dredged material include Peanut Island (with possible off-load to another use or location), ocean disposal in the Palm Harbor Ocean Dredged Material Disposal Site (which may require expansion or modification), beach placement (if there is sufficient beach compatible material), artificial reef (if there is sufficient suitable rock) and any other disposal or beneficial use options that may become available.

Issues: The EIS will consider impacts on coral reefs and other hardbottom communities, sea grasses, protected species, shore impacts, health and safety, water quality, aesthetics and recreation, fish and wildlife resources, cultural resources, energy conservation, socio-economic resources, navigation, and other impacts identified through scoping, public involvement and interagency coordination.

Scoping: The scoping process will involve Federal, State, County and municipal agencies and other interested persons and organizations. A public and agency scoping meeting will be held on January 9, 2008, at 3 p.m. at the Port of Palm Beach, One East 11th Street, Riviera Beach, FL 33404.

Public Involvement: We invite the participation of affected Federal, State and local agencies, affected Native-American Tribes, and other interested private organizations and individuals. In addition to the agency and public scoping meeting on January 9, 2008, and receipt of written comments at various stages of the Feasibility Study, there will be a public meeting on the Draft Environmental Impact Statement following its preparation. The date, time, and location will be announced.

Coordination: The proposed action is being coordinated with the U.S. Fish and Wildlife Service (FWS) and NOAA-National Marine Fisheries Service (under Section 7 of the Endangered Species Act) and the Wildlife Coordination Act (FWS only). The proposed action is also being coordinated with the Florida State Historic Preservation Officer, the U.S. Coast Guard, and the U.S. Environmental Protection Agency.

Other Environmental Review and Consultation: The proposed action would involve evaluation for compliance with guidelines pursuant to Section 404(b)(1) of the Clean Water Act, water quality certification (application to the State of Florida) pursuant to Section 401 of the Clean Water Act, certification of state lands, easements, and rights-of-way, determination of Coastal Zone Management Act Consistency, and the use of the Ocean Dredged Material Disposal Site for Palm Beach Harbor pursuant to the Marine Protection, Research, and Sanctuaries Act (Ocean Dumping Act).

Agency Role: As the cooperating agency, non-Federal sponsor and leading local expert, the Port of Palm Beach will provide information and assistance on the resources to be impacted, mitigation measures and alternatives. Other agencies having either regulatory authority or special expertise may also be invited to become a cooperating agency in preparation of the EIS.

Draft EIS Preparation: It is estimated that the Draft EIS will be available to the public by November 2008. As the study and EIS develop, additional information will be posted under Palm Beach County on the Jacksonville District's Environmental Documents web page at: http://planning.saj.usace.army.mil/envdocs/envdocsb.htm. The status of any Florida Department of Environmental Protection application submitted for permit of this action will be posted on the internet at: http://www.dep.state.fl.us/beaches/permitting/permits.htm.

Dated: December 6, 2007.
Marie G. Burns,
Acting Chief, Planning Division.

[FR Doc. E7-24150 Filed 12-12-07; 8:45 am]

BILLING CODE 3710-AJ-P